DEPARTMENT OF STATE

[Public Notice: 5146]

30-Day Notice of Proposed Information Collection: DS-7001 and SV-1999-0011-A, DOS-Sponsored Academic Exchange Program Application and Evaluation, OMB Control No. 1405-0138

ACTION: Notice of request for public comment and submissions to OMB proposed collection of information.

SUMMARY: The Department of State has submitted the following information collection request to the Office of Management and Budget (OMB) for approval in accordance with the Paperwork Reduction Act of 1995.

Title of Information Collection: DOS-sponsored Academic Exchange Program Application and Evaluation.

OMB Control Number: 1405-0138.

Type of Request: Revision of a Currently Approved Collection.

Originating Office: Bureau of Educational and Cultural Affairs (ECA/A/E/EUR).

Form Numbers: DS-7001 & SV-1999-0011-A.

Respondents: Applicants, current participants, and program alumni.

Estimated Number of Respondents: 20,500.

Estimated Number of Responses: 20,500.

Average Hours Per Response: 0.74.

Total Estimated Burden: 15,250.

Frequency: On occasion.

Obligation to Respond: Voluntary.

DATES: Submit comments to the Office of Management and Budget (OMB) for up to 30 days from August 4, 2005.

ADDRESSES: Direct comments and questions to Katherine Astrick, the Department of State Desk Officer in the Office of Information and Regulatory Affairs at the Office of Management and Budget (OMB), who may be reached at 202-395-4718. You may submit comments by any of the following methods:

• E-mail: Katherine_T._Astrick@omb.eop.gov. You must include the DS form number, information collection title, and OMB control number in the subject line of your message.

• Mail (paper, disk, or CD-ROM submissions): Office of Information and Regulatory Affairs 725 17th Street, NW., Washington, DC 20503.

• Fax: 202-395-6974.

FOR FURTHER INFORMATION CONTACT: You may obtain copies of the proposed information collection and supporting documents from Laura Alami, U.S. Department of State, Bureau of Educational and Cultural Affairs, Room 246, 301 Fourth Street, SW., Washington, DC 20547, who may be reached on 202-453-8527 or AlamiLT@state.gov.

SUPPLEMENTARY INFORMATION: We are soliciting public comments to permit the Department to:

• Evaluate whether the proposed information collection is necessary to properly perform our function.

• Evaluate the accuracy of our estimate of the burden of the proposed collection, including the validity of the methodology and assumptions used.

• Enhance the quality, utility, and clarity of the information to be collected.

• Minimize the reporting burden on those who are to respond.

Abstract of proposed collection: This collection was formerly entitled Evaluation of DOS-sponsored Academic Exchange Programs. The Department of State collects this information to identify qualified candidates for, as well as to evaluate, the grants unit's academic exchange programs.

Methodology: The majority of data collection regarding the evaluation forms occurs on site with gathered groups of respondents at program events. Applications are submitted either electronically or through the mail.

Dated: July 29, 2005.
Thomas Farrell,
Deputy Assistant Secretary for Academic Programs, Bureau of Educational and Cultural Affairs, Department of State.

[FR Doc. 05-15451 Filed 8-3-05; 8:45 am]

BILLING CODE 4710-05-M